INTERNATIONAL TRADE COMMISSION

[Investigation Nos. 701-TA-302 and 731-TA-454 (Second Review)]

Fresh and Chilled Atlantic Salmon From Norway

AGENCY: International Trade Commission.

ACTION: Revised schedule for the subject five-year reviews.

DATES: Effective September 21, 2005.

FOR FURTHER INFORMATION CONTACT: John Kitzmiller (202-205-3387), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On June 20, 2005, the Commission established its schedule for the conduct of the subject five-year reviews (70 FR 36947, June 27, 2005) and subsequently revised its schedule (70 FR 51365, August 30, 2005). The Commission hereby gives notice that it is further revising the schedule for its final determinations in the subject five-year reviews.

The Commission's schedule is revised as follows: The prehearing staff report will be placed in the nonpublic record on October 21, 2005; the deadline for filing prehearing briefs is November 1, 2005; requests to appear at the hearing should be filed with the Secretary to the Commission on or before November 1, 2005; the prehearing conference will be held on November 4, 2005; the hearing will be held on November 10, 2005; posthearing briefs are due November 21, 2005; the closing of the record and final release of information is December 20, 2005; and final comments on this information are due on or before December 22, 2005.

For further information concerning these review investigations see the Commission's notices cited above and the Commission's Rules of Practice and Procedure, part 201, subparts A through E (19 CFR part 201), and part 207, subparts A and C (19 CFR part 207).

Authority: These five-year reviews are being conducted under authority of title VII of the Tariff Act of 1930; this notice is published pursuant to section 207.21 of the Commission's rules.

Issued: September 23, 2005.
By order of the Commission.
Marilyn R. Abbott,
Secretary to the Commission.

[FR Doc. 05-19402 Filed 9-28-05; 8:45 am]

BILLING CODE 7020-02-U